DEPARTMENT OF ENERGY

Federal Energy Regulatory Commission

Combined Notice of Filings

Take notice that the Commission has received the following Natural Gas Pipeline Rate and Refund Report filings:

Filing Instituting Proceedings

Docket Numbers: RP15-1133-001.

Applicants: Algonquin Gas Transmission, LLC.

Description: Tariff Amendment per 154.205(b): Amendment to RP15-1133-000 (BP NegRate) Filing to be effective 11/1/2015.

Filed Date: 8/20/15.

Accession Number: 20150820-5054.

Comments Due: 5 p.m. ET 9/1/15.

Docket Numbers: RP15-1203-000.

Applicants: Transcontinental Gas Pipe Line Company.

Description: Section 4(d) rate filing per 154.204: OFO and OC Penalties to be effective 10/1/2015.

Filed Date: 8/20/15.

Accession Number: 20150820-5178.

Comments Due: 5 p.m. ET 9/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2015.
Nathaniel J. Davis, Sr.,
Deputy Secretary

[FR Doc. 2015-21231 Filed 8-26-15; 8:45 am]

BILLING CODE 6717-01-P